DEPARTMENT OF HEALTH AND HUMAN SERVICES

Centers for Disease Control and Prevention

[30Day-18-1091]

Agency Forms Undergoing Paperwork Reduction Act Review

In accordance with the Paperwork Reduction Act of 1995, the Centers for Disease Control and Prevention (CDC) has submitted the information collection request titled “Using Qualitative Methods to Understand Issues in HIV Prevention, Care and Treatment in the United States” to the Office of Management and Budget (OMB) for review and approval. CDC previously published a “Proposed Data Collection Submitted for Public Comment and Recommendations” notice on March 13, 2018 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Using Qualitative Methods to Understand Issues in HIV Prevention, Care and Treatment in the United States (OMB No. 0920-1091; expires December 31, 2018)—Extension—National Center for HIV/AIDS, Viral Hepatitis, STD, and TB Prevention, Centers for Disease Control and Prevention (CDC).

Background and Brief Description

The CDC's National Center on HIV/AIDS, Viral Hepatitis, STD and TB Prevention (NCHHSTP), Division of HIV/AIDS Prevention (DHAP) seeks a three year extension for an existing Generic information collection request (Generic ICR) entitled, “Using Qualitative Methods to Understand Issues in HIV Prevention, Care and Treatment in the United States” (OMB Number: 0920-1091). Specific studies conducted under this extended Generic ICR will be consistent with the national HIV prevention goals, the CDC Division of HIV/AIDS Prevention (DHAP) Strategic Plan, and DHAP's High-impact HIV Prevention approach.

The purposes for each data collection study supported under this extended Generic ICR will be to understand specific barriers and facilitators to local HIV prevention, care and treatment in the United States and territories. For example, each study will seek to identify ways to improve programmatic activities along the continuum of HIV prevention, treatment and care for different populations residing in different geographic settings with greatest burden of HIV.

The target populations for studies included in this extended Generic ICR include, but are not limited to: Persons living with HIV who are in treatment; persons living with HIV who are out of treatment and who may or may not be seeking treatment at healthcare facilities; persons at high risk for HIV acquisition (HIV negative) and HIV transmission (HIV positive); persons from groups at high risk for HIV including gay, bisexual and other MSM, transgender persons, and injection and non-injection drug users; persons from racial and ethnic minorities; and healthcare providers or other professionals who provide HIV prevention, care and treatment services. Other populations may include individuals who provide non-HIV services or otherwise interact with persons living with HIV or persons at risk for HIV acquisition.

Studies will only provide local contextual information about the barriers and facilitators to HIV prevention, care, and treatment experienced by specific communities at risk for acquiring HIV infection, by HIV-positive persons across the HIV care continuum, and by organizations or individuals providing HIV prevention, care, treatment, and related support services.

Data collection methods used in any of the specific studies primarily will consist of rapid qualitative assessment methodologies, such as semi-structured and in-depth qualitative interviews, focus groups; direct observations; document reviews; and short structured surveys. Data will be analyzed using well-established qualitative analysis methods, such as coding interviews for themes about barriers and successes to HIV prevention, care, and treatment. Structured response surveys will be analyzed using descriptive statistics and other appropriate statistical methods.

CDC will use the results from each specific data collection study to help to identify ways to improve local programmatic activities for specific communities along the continuum of HIV prevention, treatment and care for populations and areas with the greatest HIV burden. CDC will communicate study outcomes to local stakeholders and organizations in positions to consider and implement site-specific improvements in HIV prevention, care, and treatment for each of the study sites examined. For stakeholders, organizations, or agencies outside the local affected communities, all communications will include clear discussion of the limitations of the region-specific, qualitative methods and the non-generalizability of the study outcomes.

For a given year, each separate data collection will range from 30 (minimum) to 200 (maximum) respondents based on the nature and scope of the research purposes. For example, if there are three data collections, the maximum combined number of expected respondents is 600. In a given year, CDC anticipates that the need to screen 1600 persons to identify 800 eligible persons, of which 600 persons will agree to participate.

CDC anticipates that screener forms will take five minutes to complete each, contact information forms will take one minute to complete each, and consent forms will take five minutes to complete each. CDC anticipates 50% of the targeted populations screened will be eligible for the study. Of eligible persons, 75% will agree to participate.

Brief structured surveys will take 15 minutes to complete. In-depth interviews or focus groups with respondents are expected to take 60 minutes (one hour) to complete. In-depth interviews or focus groups with healthcare providers are expected to take 45 minutes to complete.

The total annual response burden based on an average of 600 study respondents per year (assuming three large data collections involving 200 participants each) is estimated at 918 hours. There is no cost to respondents other than their time.

Type of respondents | Form name | Number of respondents | Number of responses per respondent | Average burden per response (in hours)
General Public—Adults | Study Screener | 1600 | 1 | 5/60
General Public—Adults | Contact Information Form | 600 | 1 | 1/60
General Public—Adults | Consent Form | 600 | 1 | 5/60
General Public—Adults | Demographic Survey | 500 | 1 | 15/60
General Public—Adults | Interview Guide | 500 | 1 | 1
General Public—Adults | Provider Demographic Survey | 100 | 1 | 15/60
General Public—Adults | Provider Interview Guide | 100 | 1 | 45/60

Jeffrey M. Zirger,
Acting Chief, Information Collection Review Office, Office of Scientific Integrity, Office of the Associate Director for Science, Office of the Director, Centers for Disease Control and Prevention.

[FR Doc. 2018-15526 Filed 7-19-18; 8:45 am]

BILLING CODE 4163-18-P